ENVIRONMENTAL PROTECTION AGENCY

[FRL-8899-9]

Science Advisory Board Staff Office; Notification of a Public Teleconference and Meeting of the Science Advisory Board Drinking Water Committee

AGENCY: Environmental Protection Agency.

ACTION: Notice.

SUMMARY: The Environmental Protection Agency (EPA) Science Advisory Board (SAB) Staff Office announces two meetings of the SAB Drinking Water Committee (DWC): A public teleconference and a face-to-face meeting to review the Agency's draft supporting analysis for the proposed revised Total Coliform Rule.

DATES: The SAB will hold the public teleconference on May 20, 2009 that will begin at 1 p.m. and end at 4 p.m. (Eastern Time). A face-to-face meeting will be held on June 9, 2009 from 9 a.m. to 5 p.m. (Eastern Time) and will continue on June 10, 2009 from 9 a.m. to 4 p.m. (Eastern Time).

ADDRESSES: The telephone conference will be conducted by phone only. The June 9-10, 2009 face-to-face meeting will be held at the Ritz-Carlton Hotel, 1150 22nd Street, NW., Washington, DC 20037.

FOR FURTHER INFORMATION CONTACT: Any member of the public wishing to obtain general information concerning this public teleconference or meeting should contact Dr. Sue Shallal, Designated Federal Officer (DFO), EPA Science Advisory Board (1400F), U.S. Environmental Protection Agency, 1200 Pennsylvania Avenue, NW., Washington, DC 20460; via telephone/voice mail: (202) 343-9977; fax: (202) 233-0643; or e-mail at shallal.suhair@epa.gov. General information concerning the EPA Science Advisory Board can be found on the SAB Web site at http://www.epa.gov/sab.

SUPPLEMENTARY INFORMATION: The SAB was established by 42 U.S.C. 4365 to provide independent scientific and technical advice to the Administrator on the technical basis for Agency positions and regulations. The SAB is a Federal Advisory Committee chartered under the Federal Advisory Committee Act (FACA), as amended, 5 U.S.C., App. The SAB will comply with the provisions of FACA and all appropriate SAB Staff Office procedural policies. Pursuant to the Federal Advisory Committee Act, Public Law 92-463, notice is hereby given that the EPA SAB Drinking Water Committee (DWC) augmented with other SAB members will hold a public teleconference and a face-to-face meeting to prepare for and review the Agency's draft supporting analysis for the proposed revised Total Coliform Rule.

Background: The EPA's Total Coliform Rule (TCR) is the basic regulation for assuring proper system operation and maintenance and microbial quality. The TCR assesses the adequacy of water treatment, the integrity of the distribution system, and the vulnerability of a system to fecal contamination. In July 2003, EPA published its final decision to revise the TCR as a result of its National Primary Drinking Water Regulation (NPDWR) Review determination.

In 2007, EPA established the Total Coliform Rule/Distribution System Advisory Committee (TCRDSAC) under the Federal Advisory Committee Act (FACA). The charge to the TCRDSAC was to develop an agreement in principle (AIP) regarding recommendations to EPA on revisions to the TCR and information about distribution systems needed to better understand and address possible public health impacts from potential degradation of drinking water quality in distribution systems. The TCRDSAC considered the TCR monitoring framework, sanitary survey provisions, definition of Maximum Contaminant Level (MCL) violations and potential follow-up corrective actions, and communication of public health significance of violations. The TCRDSAC considered both technical and policy issues in drafting an AIP that recommended revisions to the TCR (for additional information and documentation, refer to the following URL: http://www.epa.gov/safewater/disinfection/tcr/regulation.html.) EPA is planning to propose a revised rule that has the same substance and effect as the elements in the AIP.

EPA's Office of Water has requested that the SAB conduct a review of the Agency's draft analysis supporting the proposed revised Total Coliform Rule. The SAB review will focus on the information regarding (1) Data sources used to estimate baseline total coliform and E. coli occurrence, public water system profile, and sensitive subpopulations in the United States, (2) the occurrence analysis used to inform benefits calculations, (3) the qualitative benefits analysis used to assess the reduction in risk due to implementation of the rule requirements and (4) analysis of the engineering costs and costs to States resulting from implementation of the revisions.

Availability of Meeting Materials: The meeting agendas and other materials, including a link to access the EPA's document(s) related to the proposed rule revisions, will be posted on the SAB Web site (http://www.epa.gov/sab) in advance of the meeting. For questions and information concerning the Agency's documents, please contact Crystal Rodgers-Jenkins at 202-564-5275 or rodgers-jenkins.crystal@epa.gov.

Procedures for Providing Public Input: Interested members of the public may submit relevant written or oral information for the SAB to consider on the topics included in this advisory activity and/or group conducting the activity. Oral Statements: In general, individuals or groups requesting an oral presentation at a public SAB teleconference will be limited to three minutes per speaker, with no more than a total of one-half hour for all speakers. At the face-to-face meeting, presentations will be limited to five minutes, with no more than a total of one hour for all speakers. To be placed on the public speaker list, interested parties should contact Dr. Sue Shallal, DFO, in writing (preferably via e-mail), by May 13, 2009 for the teleconference and by June 2, 2009 for the face-to-face meeting, at the contact information noted above. Written Statements: Written statements should be received in the SAB Staff Office by May 13, 2009, so that the information may be made available to the SAB for their consideration prior to the teleconference or by June 2, 2009 for their consideration prior to the face-to-face meeting. Written statements should be supplied to the DFO via e-mail to shallal.suhair@epa.gov (acceptable file format: Adobe Acrobat PDF, WordPerfect, MS Word, MS PowerPoint, or Rich Text files in IBM-PC/Windows 98/2000/XP format). Submitters are requested to provide two versions of each document submitted with and without signatures, because the SAB Staff Office does not publish documents with signatures on its Web sites.

Accessibility: For information on access or services for individuals with disabilities, please contact Dr. Sue Shallal at (202) 343-9977 or shallal.suhair@epa.gov. To request accommodation of a disability, please contact Dr. Shallal preferably at least ten days prior to the meeting, to give EPA as much time as possible to process your request.

Dated: April 24, 2009.
Anthony F. Maciorowski,
Deputy Director, EPA Science Advisory Board Staff Office.

[FR Doc. E9-10068 Filed 4-30-09; 8:45 am]

BILLING CODE 6560-50-P